DEPARTMENT OF JUSTICE

National Institute of Corrections

Solicitation for a Cooperative Agreement—National Institute of Corrections Inaugural Virtual Conference: Event Planning and Delivery

AGENCY: National Institute of Corrections, U.S. Department of Justice.

ACTION: Solicitation for a Cooperative Agreement.

SUMMARY: The National Institute of Corrections (NIC) is soliciting proposals from organizations, companies, or agencies to enter into a cooperative agreement for a 9-month project period for the design, scheduling, promotion, production, and delivery of an NIC Virtual Conference entitled “Handcuff Key to Door Key: A Systems Approach to Re-Entry.”

DATES: Applications must be received by 4:00 p.m. EST on Wednesday, August 8, 2012.

ADDRESSES: Applicants are encouraged to submit their proposals electronically via http://www.grants.gov. Mailed applications must be sent to: Director, National Institute of Corrections, 320 First Street NW., Room 5002, Washington, DC 20534. If submitted in hard copy, there must be an original and three unbound copies of the full proposal. The original should have the applicant's signature in blue ink. Applicants are encouraged to use Federal Express, UPS, or similar service to ensure delivery by the due date. Faxed applications will not be accepted.

FOR FURTHER INFORMATION CONTACT: A copy of this announcement can be downloaded from the NIC Web site at www.nicic.gov. All technical or programmatic questions concerning this announcement should be directed to Bernie Iszler, Correctional Program Specialist, National Institute of Corrections. She can be reached by calling 303-338-6618 or by email at biszler@bop.gov. All questions, answers, and additional information on this solicitation will be posted on NIC's Web site at www.nicic.gov for public review (the names of those submitting questions will not be posted). The Web site will be updated regularly and postings will remain on the Web site until the closing date of this cooperative agreement solicitation. Only questions received by 12:00 p.m. (EDT) on August 3, 2012 will be posted on the NIC Web site.

SUPPLEMENTARY INFORMATION: Background: The National Institute of Corrections has been providing technical assistance, training, and information to the corrections field since 1974 by using a variety of delivery strategies, including networks, Web sites, and other outreach tools. As information technology has advanced, NIC has adopted the use of synchronous and asynchronous learning platforms, electronic networks, e-newsletters, and soon-to-be-added NIC mobile applications (e.g., smart phone apps). The Inaugural Virtual Conference is another step NIC is taking in using new technologies to deliver services to the field as effectively and efficiently as possible. The National Institute of Corrections target date for hosting its Inaugural Virtual Conference is April 2013. Titled “Handcuff Key to Door Key: A Systems Approach to Re-Entry,” the conference will cater to criminal justice and corrections professionals, service providers, and stakeholders in the field of corrections. NIC staff and corrections subject matter experts will be providing the content for the virtual conference. NIC is seeking to produce a half-day virtual conference (approximately 5 hours in length) that will include (1) a fully branded convention center with a video greeting; (2) Virtual exhibit hall with scheduled live staff interaction (staff from all NIC divisions); (3) Auditorium with live and/or prerecorded keynote speakers and other presenters; (4) Resource center with downloadable content including white papers, NIC documents, and links in formats including but not limited to .pdf, .doc, .ppt, and .wmv; (5) Communications center with networking opportunities, scheduled discussions, group chat, and forums; and (6) Workshops with live and prerecorded presentations.

Scope of Work: The goals and tasks of this work will include (1) a program manager, a team of event facilitators, and support personnel to manage the virtual conference through design, scheduling, promotion, and delivery; (2) In-studio and/or onsite production staff to create and capture video greetings and workshop sessions; (3) Technical and streaming expertise in delivering content; (4) Event scheduling expertise; (5) Expertise in best practices and communication tips for presenters; (6) Chat-based and phone-based technical support for the event. Proposals will outline in a project plan a detailed chart and description of a project management structure and team roles, a task plan that addresses the planning phase with specific deliverables, delivery phase with specific deliverables, and post conference phase with specific deliverables. In all phases of the project planning, development, and delivery, NIC involvement and approval benchmarks will be included in the overarching project plan.

The deliverables for this project include (1) a fully branded convention center with a video greeting; (2) Virtual exhibit hall with scheduled live staff interaction (staff from all NIC divisions); (3) Auditorium with live and/or prerecorded keynote speakers and other presenters; (4) Resource center with downloadable content including NIC documents and links in formats including .pdf, .doc, .ppt, and wmv; (5) Communications center with networking opportunities, scheduled discussions, group chat, and forums; (6) Workshops with live and prerecorded presentations; (7) Post-conference reports outlining lessons learned (both technical and programmatic); and (8) Registration of attendees and metrics of attendees (e.g., number of hours of attendance per attendee).

Specific Requirements: Requirements include event platform product and technical expertise in virtual conference event planning, scheduling, promotion, and delivery.

Document Requirements: Documents or other media produced under this award must follow these guidelines: Prior to the preparation of the final draft of any document or other media, the awardee must consult with NIC's writer/editor concerning the acceptable formats for manuscript submissions and the technical specifications for electronic media. The awardee must follow the guidelines listed herein, as well as follow (1) the Guidelines for Preparing and Submitting Manuscripts for Publication as found in the “General Guidelines for Cooperative Agreements,” which can be found on our Web site at www.nicic.gov/cooperativeagreements and (2) NIC recommendations for producing media using plain language, which can be found at www.nicici.gov/plainlanguage.

All final documents and other media submitted under this project may be posted on the NIC Web site and must meet the Federal Government's requirement for accessibility (e.g., 508 PDFs or HTML files). The awardee must provide descriptive text interpreting all graphics, photos, graphs, and/or multimedia that will be included with or distributed alongside the materials and must provide transcripts for all applicable audio/visual works.

Application Requirements: Applications should be concisely written, typed double spaced and reference the project by the “NIC Opportunity Number” and title in this announcement. The package must include a cover letter that identifies the audit agency responsible for the applicant's financial accounts as well as the audit period or fiscal year that the applicant operates under (e.g., July 1 through June 30); a program narrative not to exceed 30 pages in response to the statement of work; and a budget narrative explaining projected costs. Applicants may submit a description of the project team's qualifications and expertise relevant to the project but should not attach lengthy resumes. Large attachments to the proposal describing the organization are discouraged.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements available at http://nicic.gov/Downloads/General/certif-frm.pdf. Failure to supply all required forms with the application package will result in disqualification of the application from consideration.

Authority: Pub. L. 93-415.

Funds Available: NIC is seeking the applicant's best ideas regarding accomplishment of the scope of work and the related costs for achieving the goals of this solicitation. Funds may be used only for the activities that are linked to the desired outcome of the project.

Eligibility of Applicants: An eligible applicant is any public or private agency, educational institution, organization, individual, or team with expertise in the described areas.

Review Considerations: Applications received under this announcement will be subject to the NIC review process. Proposals that fail to provide sufficient information to have them evaluated under the criteria below may be judged non-responsive and disqualified. The criteria for the evaluation of each application will be as follows: Programmatic (40%)

Are all of the goals and project tasks adequately discussed? Is there a clear statement of how each task will be accomplished, including major sub-tasks, the strategies to be employed, required staffing, and other required resources? Are there any innovative approaches, techniques, or design aspects proposed that will enhance the project? Organizational (35%)

Does the proposed project staff possess the skills, knowledge, and expertise necessary to complete the tasks listed under the scope of work? Does the applicant organization, group, or individual have the organizational capacity to achieve all five project tasks? Are the proposed project management and staffing plans realistic and sufficient to complete the project within the project time frame?

Project Management/Administration (25%)

Does the applicant identify reasonable objectives, milestones, and measures to track progress? If the applicant proposes consultants and/or partnerships, is there a reasonable justification for their inclusion in the project and a clear structure to ensure effective coordination? Is the proposed budget realistic, does it provide a sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Number of Awards: One.

NIC Opportunity Number: 12AC07. This number should appear as a reference line in the cover letter, where indicated on Standard Form 424, and outside of the envelope in which the application is sent.

Catalog of Federal Domestic Assistance Number: 16.601.

Executive Order 12372: This project is not subject to the provisions of Executive Order 12372.

Jimmy L. Cosby,
Acting Director, National Institute of Corrections.

[FR Doc. 2012-18465 Filed 7-27-12; 8:45 am]

BILLING CODE 4410-36-P